DEPARTMENT OF AGRICULTURE

Forest Service

Notice of New Fee Site; Federal Lands Recreation Enhancement Act, (Title VIII, Pub. L. 108-447)

AGENCY: Tonto National Forest, USDA Forest Service.

ACTION: Notice of new fee site.

SUMMARY: The Tonto National Forest will begin charging fees for the Timber Camp Recreation Site. Fees paid at similar recreation sites on the Tonto National Forest have shown that publics appreciate and enjoy the availability of campgrounds, picnic sites and horse camps and are willing to pay reasonable fees for use of such sites. The fee rates will be $10 per vehicle per night for camping in family/horse camp units and $60 per unit per night for group sites. Funds from fees will be used for the operation and maintenance of Timber Camp Recreation Site.

DATES: Timber Camp Recreation Site will become available for use in September, 2006.

ADDRESSES: Forest Supervisor, Tonto National Forest, 2324 E McDowell Rd., Phoenix, AZ 85006.

FOR FURTHER INFORMATION CONTACT: Dave Killebrew, Recreation Fee Coordinator, 602-225-5239.

SUPPLEMENTARY INFORMATION: The Federal Recreation Lands Enhancement Act (Title VII, Pub. L. 108-447) directed the Secretary of Agriculture to publish a six month advance notice in the Federal Register whenever new recreation fee areas are established.

The Tonto National Forest currently charges recreation fees at over 80 locations. A business analysis and past history has shown that people expect to pay for recreation experiences such as camping, boating, swimming and picnicking at developed sites on the Tonto National Forest. A market analysis indicates that the proposed fees for Timber Camp are both reasonable and acceptable for this sort of recreation experience.

Dated: March 16, 2006.
Gene Blankenbaker,
Tonto National Forest Supervisor.

[FR Doc. 06-2858 Filed 3-23-06; 8:45 am]

BILLING CODE 3410-11-M